FEDERAL COMMUNICATIONS COMMISSION

Radio Broadcasting Services; AM or FM Proposals To Change The Community of License

AGENCY: Federal Communications Commission.

ACTION: Notice.

SUMMARY: The following applicants filed AM or FM proposals to change the community of license: AMERICAN EDUCATIONAL BROADCASTING, INC., Station KLKA, Facility ID 82692, BPED-20080627ABN, From GLOBE, AZ, To CASA GRANDE, AZ; CHRISTIAN BROADCASTING SYSTEM, LTD., Station WLCM, Facility ID 42076, BMP-20080620AEG, From CHARLOTTE, MI, To HOLT, MI; CITICASTERS LICENSES, L.P., Station WCKY-FM, Facility ID 70526, BPH-20080619AHQ, From TIFFIN, OH, To PEMBERVILLE, OH; COMMUNITY PUBLIC RADIO, INC., Station WIVL, Facility ID 122086, BMPED-20080703AGV, From PATTERSON, GA, To ATHENS, GA; EDUCATIONAL MEDIA FOUNDATION, Station KQBE, Facility ID 52035, BPH-20080617ADE, From ELLENSBURG, WA, To SELAH, WA; EDUCATIONAL MEDIA FOUNDATION, Station KAIC, Facility ID 78758, BPED-20080627ABL, From TUCSON, AZ, To MAMMOTH, AZ; ELECTRONIC APPLICATIONS RADIO SERVICE, INC., Station WBOO, Facility ID 174726, BMPED-20080702AAK, From MORGANFIELD, KY, To WADESVILLE, IN; FINCH JR, DANIEL W, Station WSGD, Facility ID 165958, BMPH-20080616ADB, From ARNOLDSBURG, WV, To FAYETTEVILLE, WV; FRANDSEN MEDIA COMPANY, LLC, Station KGNT, Facility ID 38274, BPH-20070119AFJ, From FORT BRIDGER, WY, To SMITHFIELD, UT; FRANKLIN COMMUNICATIONS, INC., Station WODB, Facility ID 54556, BPH-20080724AAL, From DELAWARE, OH, To WESTERVILLE, OH; HORIZON CHRISTIAN FELLOWSHIP, Station KHRW, Facility ID 166062, BMPH-20080718AHI, From WRIGHT, WY, To RANCHESTER, WY; JODESHA BROADCASTING, INC., Station KANY, Facility ID 164149, BPH-20080710AJA, From OCEAN SHORES, WA, To MONTESANO, WA; JODESHA BROADCASTING, INC., Station KSWW, Facility ID 60544, BPH-20080710AJE, From MONTESANO, WA, To OCEAN SHORES, WA; M. KENT FRANDSON, Station KNYN, Facility ID 87470, BPH-20070119AEV, From FRANKLIN , ID, To FORT BRIDGER, WY; MAGNUS, EDWARD F, Station NEW, Facility ID 165991, BMPH-20080519ABU, From WISHEK, ND, To LINTON, ND; MARIA E. JUAREZ, Station KDIL, Facility ID 161412, BMP-20080708AFX, From DILLON, MT, To TWIN FALLS, ID; MATINEE RADIO, LLC, Station KANM, Facility ID 164213, BMPH-20071106ABR, From MAGDALENA, NM, To SKYLINE-GANIPA, NM; NEW INSPIRATION BROADCASTING COMPANY, Station KFSH-FM, Facility ID 2195, BPH-20080626ABS, From ANAHEIM, CA, To LA MIRADA, CA; RADIO ONE LICENSES, LLC, Station WWIN-FM, Facility ID 54710, BPH-20080701ACS, From GLEN BURNIE, MD, To ARBUTUS, MD; RADIOACTIVE, LLC, Station WUPZ, Facility ID 164243, BPH-20080619AIU, From CRYSTAL FALLS, MI, To CHOCOLAY TOWNSHIP, MI; RADIOACTIVE, LLC, Station WTRW, Facility ID 164253, BPH-20080716AGZ, From TWO RIVERS, WI, To GLENMORE, WI; RADIOJONES, LLC, Station WXRS-FM, Facility ID 36212, BPH-20080724AAT, From SWAINSBORO, GA, To PORTAL, GA; ROGER L. HOPPE, II, Station KLIM, Facility ID 25185, BMP-20080613ACF, From LIMON, CO, To BLACK FOREST, CO; SAGA COMMUNICATIONS OF ILLINOIS, LLC, Station WXTT, Facility ID 28195, BPH-20080811AAS, From DANVILLE, IL, To SAVOY, IL; SKYWEST MEDIA L.L.C., Station KXML, Facility ID 164259, BMPH-20080411AHN, From SALMON, ID, To FAIRFIELD, ID; SUN VALLEY RADIO, INC, Station KKEX, Facility ID 63834, BPH-20070119AFG, From SMITHFIELD, UT, To PRESTON, ID; TEAM RADIO LLC, Station KLOR-FM, Facility ID 52678, BPH-20080708AOL, From PONCA CITY, OK, To CHENEY, KS; THE ST. LAWRENCE UNIVERSITY, Station WXLQ, Facility ID 176918, BMPED-20080813ABE, From VERGENNES, VT, To BRISTOL, VT; TICHENOR LICENSE CORPORATION, Station KPTI, Facility ID 479, BPH-20080711AEC, From CRYSTAL BEACH, TX, To WINNIE, TX; WAMC, Station WRUN, Facility ID 73969, BP-20060202AAI, From UTICA, NY, To NEW HARTFORD, NY; WHITE PARK BROADCASTING, INC., Station KHNA, Facility ID 166001, BMPH-20070117AFI, From HANNA, WY, To WARREN AIR FORCE BASE, WY; XANA DUKE RADIO PARTNERS, LLC, Station KZID, Facility ID 88203, BMPH-20080116AAX, From OROFINO, ID, To CULDESAC, ID.

DATES: Comments may be filed through October 24, 2008.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm . A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division, Media Bureau.

[FR Doc. E8-19646 Filed 8-22-08; 8:45 am]

BILLING CODE 6712-01-P